SECURITIES AND EXCHANGE COMMISSION

[File No. 500-1]

Puda Coal, Inc.; Order of Suspension of Trading

August 19, 2011.

It appears to the Securities and Exchange Commission that there is a lack of current and accurate information concerning the securities of Puda Coal, Inc. (“Puda”) because (1) Puda's auditors resigned on July 7, 2011 and stated that further reliance should no longer be placed on its previously issued audit reports dated March 31, 2010 and March 16, 2011; and (2) the Audit Committee of Puda's Board of Directors has announced that it has preliminarily concluded that evidence supports the allegation that there were transfers by Puda's Chairman in subsidiary ownership that were inconsistent with disclosure made by the Company in its public securities filings. Puda is quoted on the OTC Pink Market operated by the OTC Markets Group Inc. under the symbol PUDA.

The Commission is of the opinion that the public interest and the protection of investors require a suspension of trading in the securities of the company listed above.

Therefore, it is ordered, pursuant to Section 12(k) of the Securities Exchange Act of 1934, that trading in the securities of the companies listed above is suspended for the period from 5:30 p.m. EDT, August 19, 2011, through 11:59 p.m. EDT, on September 1, 2011.

By the Commission.
Elizabeth M. Murphy,
Secretary.

[FR Doc. 2011-21777 Filed 8-22-11; 4:15 pm]

BILLING CODE 8011-01-P